DEPARTMENT OF HEALTH AND HUMAN SERVICES

National Institutes of Health

Clinical Center; Notice of Meeting

Pursuant to section 10(d) of the Federal Advisory Committee Act, as amended (5 U.S.C. appendix 2), notice is hereby given of the Board of Governors of the Warren Grant Magnuson Clinical Center.

The meeting will be closed to the public, with attendance limited to space available. Individuals who plan to attend and need special assistance, such as sign language interpretation or other reasonable accommodations, should notify the Contact Person listed below in advance of the meeting.

Name of Committee: Board of governors of the Warren Grant Magnuson Clinical Center, Executive Committee.

Date: June 13, 2003.

Time: 9 a.m. to 12 p.m.

Agenda: Updates on organizational planning and budget issues.

Place: National Institutes of Health, Building 10, 10 Center Drive, Bethesda, MD 20892.

Contact Person: Maureen E. Gormley, Executive Secretary, Warren Grant Magnuson Clinical Center, National Institutes of Health, Building 10, Room 2C146, Bethesda, MD 20892, 301/496-2897.

Information is also available on the Institute's/Center's home page: www.cc.nih.gov/, where an agenda and any additional information for the meeting will be posted when available.

Dated: May 8, 2003.
Anna P. Snouffer,
Acting Director, Office of Federal Advisory Committee Policy.

[FR Doc. 03-12091 Filed 5-14-03; 8:45 am]

BILLING CODE 4140-01-M